NATIONAL SCIENCE FOUNDATION

45 CFR Part 650

RIN 3145-AA44

Minor Amendments To Rule on Inventions and Patents Resulting From Grants, Cooperative Agreements, and Contracts

AGENCY: National Science Foundation.

ACTION: Notice of proposed rulemaking.

SUMMARY: This action would amend the NSF Patents regulation to require grantees to use an electronic reporting and management system for inventions made with NSF assistance.

DATES: Comments must reach the NSF Patent Assistant on or before February 7, 2005.

ADDRESSES: All comments should be addressed to: NSF Patent Assistant at patents@nsf.gov or at Office of the General Counsel, National Science Foundation 4201 Wilson Boulevard, Arlington, VA 22230.

FOR FURTHER INFORMATION CONTACT: Robin Clay Fritsch, NSF Patent Assistant, at patents@nsf.gov or on (703) 292-8060 (voice) or (703) 292-9041 (facsimile).

SUPPLEMENTARY INFORMATION: This amendment would revise the current NSF patent regulation published as part 650 of title 45 of the Code of Federal Regulations to require NSF awardees to use the Edison Invention Information Management System maintained by the National Institutes of Health to handle NSF-assisted inventions. This is consistent with the Foundation's requirement that all proposals seeking NSF financial assistance and all reports on NSF-assisted projects be submitted electronically.

Submit electronic comments as an ASCII file avoiding the use of special characters and any form of encryption. Identify all comments sent electronically with subject line: Comments to Proposed Rulemaking.

Determinations

Regulatory Evaluation

This proposed rule is not a “significant regulatory action” under section 3(f) of Executive Order 12866, Regulatory Planning and Review, and does not require an assessment of potential costs and benefits under section 6(a)(3) of that Order. The Office of Management and Budget has not reviewed it under that Order.

Small Entities

Under the Regulatory Flexibility Act (5 U.S.C. 601-612), I have considered whether this proposed rule would have a significant economic impact on a substantial number of small entities. The term “small entities” comprises small businesses, not-for-profit organizations that are independently owned and operated and are not dominant in their fields, and governmental jurisdictions with populations of less than 50,000. I certify under 5 U.S.C. 605(b) that this proposed rule would not have a significant economic impact on a substantial number of small entities. This rule would possibly affect the following entities, some of which may be small entities: NSF grantees, including those funded under our Small Business Innovation Research and Small Business Technology Transfer Programs, and recipients of subcontracts under NSF grants.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (5 U.S.C. 601 note), we want to assist small entities in understanding this proposed rule so that they can better evaluate its effects on them and participate in the rulemaking. If the rule would affect your small business, organization, or governmental jurisdiction and you have questions concerning its provisions or options for compliance, please contact Robin Clay Fritsch, NSF Patent Assistant, on (703) 292-8060 (voice), (703) 292-9041 (facsimile), or patents@nsf.gov.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. I have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. This proposed rule would not result in such an expenditure.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

I have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effective on one or more Indian tribes, on the relationship between the Federal Government and Indian tribes, or on the distribution of power and responsibilities between the Federal Government and Indian tribes.

Energy Effects

I have analyzed this proposed rule under Executive Order 13211, Actions Concerning Regulations That Significantly Affect Energy Supply, Distribution, or Use, and determined that it is not a “significant energy action” under that order because it is not a “significant regulatory action” under Executive Order 12866 and is not likely to have a significant adverse effect on the supply, distribution, or use of energy. The Administrator of the Office of Information and Regulatory Affairs has not designed it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

List of Subjects in 45 CFR Part 650

Government procurement, Grant programs—science and technology, Inventions and patents, Nonprofit organizations, Small businesses.

Lawrence Rudolph,
General Counsel.

Accordingly, Title 45 of the Code of Federal Regulations part 650 is proposed to be amended as follows:

PART 650—PATENTS

1. The authority citation for Part 650 continues to read as follows:

Authority: 35 U.S.C. 200-212; 42 U.S.C. 1870(e) and 1871; and the Presidential Memorandum entitled “Government Patent Policy”, issued February 18, 1983.

§ 650.4 [Amended]

2. The Patent Rights clause set forth in § 650.4(a) is amended:

A. By removing “SEPTEMBER, 1997” in its heading and adding in its place, “FEBRUARY, 2005”.

B. By removing the words “shall be in the form of a written report” in paragraph (c)(1) and adding in its place, “will be submitted via the iEdison Invention Information Management System maintained by the National Institutes of Health”;

C. By removing the words “forward to NSF” in paragraph (f)(5) and adding in its place, “submit electronically to NSF via the iEdison Invention Information Management System maintained by the National Institutes of Health”; and

D. By revising paragraph (l) to read:

(l) Communications. All communications required by this Patents Rights clause must be submitted through the iEdison Invention Information Management System maintained by the National Institutes of Health unless prior permission for another form of submission is obtained from the Patent Assistant at patents@nsf.gov or at Office of the General Counsel, National Science Foundation, 4201 Wilson Boulevard, Arlington, VA 22230.

3. Section 650.19 is revised to read:

§ 650.19 Electronic invention handling.

(a) Grantees must use the iEdison Invention Information Management System maintained by the National Institutes of Health to disclose NSF subject inventions. Detailed instructions for use of that system are provided at https://s-edison.info.nih.gov/iEdison/ and should be followed for NSF subject inventions except that:

(1) All communications required must be provided electronically as a PDF or TIFF file through iEdison unless prior permission for another form of submission is obtained from the Patent Assistant.

(2) NSF does not require either an Annual Utilization Report or a Final Invention Statement and Certification.

(b) Questions on use of iEdison and requests for persmission to submit material in other forms may be sent to the NSF Patent Assistant at patents@nsf.gov or at Office of the General Counsel, National Science Foundation, 4201 Wilson Boulevard, Arlington, VA 22230.

[FR Doc. 04-27034 Filed 12-8-04; 8:45 am]

BILLING CODE 7555-01-P